DEPARTMENT OF JUSTICE

Notice of Lodging of Proposed Stipulation and Order of Settlement Under the Federal Insecticide, Fungicide, and Rodenticide Act

On June 13, 2022, the Department of Justice lodged a proposed Stipulation and Order of Settlement (“settlement”) with the District Court of the Southern District of New York in a lawsuit entitled Tzumi Innovations, LLC v. Regan, et al., Civil Action No. 21-122.

In a counterclaim in this action, the United States seeks, as provided under the Federal Insecticide, Fungicide, and Rodenticide Act (“FIFRA”), a civil penalty and injunctive relief from Tzumi Innovations, LLC (“Tzumi”) in connection with Tzumi's distribution and sale of unregistered pesticides pursuant to FIFRA § 12(a)(1)(A), 7 U.S.C. 136j(a)(1)(A). The proposed settlement resolves the United States' counterclaim, requires Tzumi to pay $1.5 million, and imposes injunctive relief. It also resolves Tzumi's claims against the Environmental Protection Agency in the litigation.

The publication of this notice opens the public comment on the proposed settlement. Comments should be addressed to the Assistant Attorney General, Environment and Natural Resources Division, and should refer to Tzumi Innovations, LLC v. Regan, D.J. # 1-12610. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the settlement may be examined and downloaded at this Justice Department website: http://www.usdoj.gov/enrd/Consent_Decrees.html. We will provide a paper copy of the settlement upon written request and payment of reproduction costs. Please email your request and payment to: Consent Decree Library, U.S. DOJ—ENRD, P.O. Box 7611, Washington, DC 20044-7611.

Please enclose a check or money order for $6.50 (25 cents per page reproduction cost) payable to the United States Treasury.

Henry S. Friedman,
Assistant Section Chief, Environmental Enforcement Section, Environment and Natural Resources Division.

[FR Doc. 2022-13167 Filed 6-17-22; 8:45 am]

BILLING CODE 4410-15-P